DEPARTMENT OF AGRICULTURE

Office of Partnerships and Public Engagement

[FOA No.: OPPE-015]

Funding Opportunity Announcement—Solicitation for Applications To Assist Persistent Poverty Farmers, Ranchers, Agriculture Producers and Communities Through Agriculture Resources

AGENCY: Office of Partnerships and Public Engagement (OPPE), Agriculture (USDA).

ACTION: Funding Opportunity Announcement (FOA).

Catalog of Federal Domestic Assistance (CFDA) Nos.: 10.902-Soil and Water Conservation (CTA): Soil Conservation and Domestic Allotment Act; 10.443-Outreach and Assistance for Socially Disadvantaged Farmers and Ranchers and Veteran Farmers and Ranchers

SUMMARY: This notice announces the availability of funds and solicits applications for grants from community-based and non-profit organizations, institutions of higher education, and tribal entities to compete for financial assistance through the OPPE. Funding will be made available for the purpose of leveraging USDA, state, local and private sector resources, to address local agricultural and natural resource issues, encourage collaboration and to develop state and local leadership and partnerships to assist limited resource and socially disadvantaged and veteran farmers, ranchers, agricultural producers and communities through agriculture industries. The eligible entities will provide technical assistance to persistent poverty communities, with emphasis on socially disadvantaged and/or veteran farmers, ranchers and agricultural producers to assist them in establishing a local working leaders group, identifying issues, challenges and assets, preparing a plan of action and identifying resources and means to address and accomplish results through available programmatic services and opportunities.

DATES: Proposals must be received via Grants.gov by 11:59 p.m. Eastern Standard Time on August 24, 2020.

For Further Information or for Programmatic Complaints, Please Contact: U.S. Department of Agriculture, Office of Partnerships and Public Engagement, Attn: Jacqueline Davis-Slay, Deputy Director, Jamie L. Whitten Building, Room 520-A, 1400 Independence Avenue SW, Washington, DC 20250; Phone: (202) 720-6350; Fax: (202) 720-7704; Email: CommunityProsperity@usda.gov.

Persons with Disabilities: Persons who require alternative means for communication (Braille large print, audiotape, etc.), should contact USDA's TARGET Center at (202) 720-2600 (voice and TDD). Additionally, alternative means for submissions due to disability status will be approved on a case-by-case basis.

SUPPLEMENTARY INFORMATION: Proposals will be scored as they are received and, if eligible, added to a ranking list of projects for funding consideration. Funding recommendations will be forwarded to the Director of OPPE who will make final selections. Funds will be awarded to eligible entities that have documented knowledge of and experience with USDA programs, experience in providing agricultural education or other agricultural-related services to socially disadvantaged and/or veteran farmers, ranchers and agricultural producers, experience with economic development in persistent poverty areas, and in developing partnerships with relevant entities and individuals to reach a common goal.

An applicant MUST be an entity or organization. “Individuals” do not meet the eligibility criteria.

Funds under this announcement may not be used for the following: Planning, repair, rehabilitation, acquisition, or construction of a building or facility; for start-up or financing costs for businesses or for an organization's capacity building; as small agricultural loans for individual farmers; or to incentivize individuals to attend an event.

Funding/Awards: The total funding available for this competitive opportunity is approximately $4 million (including funds provided in the 2018 Farm Bill and the Consolidated Appropriations Act of 2020). The OPPE will award grants from this announcement subject to availability of funds and the quality of applications received. All applicants will compete based on their organization's entity type (e.g., nonprofit organization or higher education institution). The maximum project period is 3 years. The maximum amount of requested federal funding for projects shall not exceed $450,000 over the 3-year period. Additionally, the maximum award per year is $150,000. USDA has the discretion to fund multi-year projects in an effort to maximize outreach, education and technical assistance ensuring geographical distribution of funds. Eligible entities may receive subsequent years funding provided that:

(a) Activities and associated costs do not overlap with projects awarded in previous years; and

(b) Recipients and their key partners are successfully vetted through the SAM.gov Federal award system.

The OPPE reserves the right to approve one-year no cost extensions (no additional funds).

Funding will be awarded based on competition described below:

1890 Land Grant colleges and universities, 1994 Tribal Land-Grant, Alaska Native and American Indian Tribal colleges and universities, Hispanic-Serving Institutions of higher education), and other private or state institutions of higher education with an agricultural curriculum. Also included are nonprofit organizations, community-based organizations, including a network or a coalition of community-based organizations, and Native American tribal government (federally recognized or non-federally recognized).

Higher consideration will be given to socially disadvantaged, limited resource, beginning, or veteran farmer or rancher) servicing legal entities, or joint operations according to the definition in the Agriculture Improvement Act of 2018.

OPPE reserves the right to allocate funding between the two categories based upon the number and quality of applications received.

I. Funding Opportunity Description

A. Background

The OPPE is committed to ensuring that socially disadvantaged, historically underserved (including limited resource, socially disadvantaged, and veteran farmers, ranchers and agricultural producers) are able to equitably participate in USDA programs. Community-based and non-profit organizations, higher education institutions, and eligible Tribal entities with an expertise in working within rural persistent poverty areas of socially disadvantaged or veteran farmers, ranchers and agricultural producers can play a critical role in addressing the unique difficulties they face and can help improve their ability to start and maintain successful agricultural businesses and create sustainable growing communities. With this funding, organizations must establish partnerships to provide local agricultural education and training and extend outreach efforts to connect with and assist local socially disadvantaged and/or veteran farmers, ranchers and agricultural producers to provide them with information on available USDA resources. Only one proposal will be accepted from each organization.

Eligible entities may compete for funding on projects that provide outreach, education and training in agriculture, conservation, agribusiness, and forestry, with a focus on economic and workforce development, innovation and technology, and quality of life through agriculture industries. This partnership includes working closely with OPPE, USDA Liaisons and the State Food and Agriculture Council (SFAC) to coordinate outreach and training events and attend OPPE-led events in your proposed service territory.

The overall goal is to develop partnerships with eligible entities to expand outreach and assistance to help socially disadvantaged and historically underserved farmers, ranchers, ag producers and communities in persistent poverty areas, including in Opportunity Zones, through the agriculture sector to foster hope and opportunity, build assets and create wealth. Eligible entities will identify communities to receive tailored technical assistance and support by organizing and facilitating summits and training through partnerships with the USDA Liaisons and SFAC, collectively known and the OneUSDA team. Entities will establish a local prosperity council that consists of (but not limited to) the mayor, county planning committee, board of supervisors, superintendents and Board of Education, farmers, ranchers, agriculture producers, faith-based, etc. to focus on locally driven, bottom up solutions to address communities self-identified challenges and issues.

Proposals will be accepted for projects in any of the 50 States, the District of Columbia, the Caribbean area (Puerto Rico and the U.S. Virgin Islands), and the Pacific Islands area (Guam, American Samoa, and the Commonwealth of the Northern Mariana Islands). A total of up to $4 million is available for Fiscal Year 2020 for this funding opportunity. Applicants must be a Native American tribal government (federally recognized or non-federally recognized), a nonprofit having a 501(c)(3) status with the IRS (other than institutions of higher education), or a private, public or state-controlled institution of higher education.

B. Program Description

The statutory authority for this action is 7 U.S.C. 2279(c), which authorizes award funding for projects designed to provide outreach, education and technical assistance to socially disadvantaged and/or veteran farmers or ranchers.

Funds are also being awarded under the Conservation Technical Assistance, Soil and Water Conservation (CTA): Soil Conservation and Domestic Allotment Act, Public Law 74-76, N/A, 16. U.S.C. 590a-590f, 590q.

C. Purpose

The purpose of this funding is to leverage USDA and partnering entities to assist persistent poverty communities with socially disadvantaged and/or veteran farmers, ranchers and agricultural producers, to improve, restore, maintain natural resources and growth in their communities through an established platform and process that focuses on fostering hope and opportunity, asset building and wealth creation. In addition, funding may be used to educate and assist persistent poverty communities with socially disadvantaged and/or veteran farmers, ranchers and agricultural producers on accessing resources and opportunities available through the Coronavirus Aid, Relief, and Economic Security Act. Through the approved grant, organizations will assist persistent poverty communities and farmers, ranchers and agriculture producers by developing partnerships and strategies to address self-identified challenges and issues to:

1. Enhance coordination and collaboration through outreach, education, and training summits and workshops;

2. Educate persistent poverty communities with limited resource, socially disadvantaged and/or veteran farmers and ranchers on increasing their access to and participation in USDA programs;

3. Assist persistent poverty communities to become economically sustainable through a locally driven bottom-up process;

4. Assist persistent poverty communities with limited resource, socially disadvantaged and/or veteran farmers, ranchers and agricultural producers to build and strengthen access to USDA programmatic services and opportunities that promote economic and community development;

5. Improve natural resources concerns;

6. Increase the number of agriculture producers;

7. Improve the environment and economic status of working agriculture lands;

8. Create Local Prosperity Councils through coordination and collaboration of USDA local officials, community leaders, farmers, ranchers and agricultural producers;

9. Develop plans to create sustainable communities that address self-identified challenges through the agriculture industry.

Proposals from eligible entities must address at least five of the following priority areas:

1. Increased access of USDA's programs and services.

2. Resolution of heirs' property issues.

3. Improved financial literacy.

4. Increased and retained new entrepreneurs in agriculture industry to include farmers, ranchers and agricultural producers.

5. Improved knowledge of agriculture business understanding.

6. Promotion of USDA programs and services to build capacity to promote economic and workforce development, innovation and technology through the agriculture industry.

7. Improved knowledge of agriculture and natural resources.

8. Increased use or implementation of conservation practices.

Eligible projects will increase the delivery of agriculture and conservation assistance to limited resource, socially disadvantaged and/or veteran farmers, ranchers and agricultural producers through coordinating and leveraging program outreach and technical assistance to manage natural resources. Outreach projects should focus on assisting socially disadvantaged and/or veteran farmers, ranchers and agricultural producers with all aspects of participating in USDA programs, including understanding and assisting in the program application process.

Eligible projects will identify and organize persistent poverty communities that include farmers, ranchers and agriculture producers to identify key challenges and develop strategies to assist them through agriculture industries to become economically sustainable, safe, educated and prosperous. Projects must follow the program summary six-step action items required and target economic development, innovation and technology, workforce development and quality of life.

Projects may include, but not limited to, providing technical assistance, transfer of technology, developing natural resource tools and information to address resource concerns in soil, water, air and plants, and animals.

The following steps will be required of all successful awardees:

(a) Identify persistent poverty communities https://www.ers.usda.gov/data-products/county-typology-codes.aspx, including communities located in Opportunity Zones, with limited resource, socially disadvantaged and/or veteran farmers, ranchers and agricultural producers. Assist with identifying local leaders and partners to create a Local Prosperity Council to champion in order to carry out local efforts needed to engage Federal, state, and local partners, to connect them with USDA programs and resources.

(b) Conduct an assessment of local challenges and issues within identified communities. This step is to list and describe, with appropriate detail, resources needed to assist the local community. These should be concrete, practical opportunities for partnerships or projects of interest to the Local Prosperity Council.

(c) List all local assets with a detailed description of each one. This step is required to identify and describe all local assets and community resources that are being leveraged by the Local Prosperity Council to accomplish its goals.

(d) Identify key collaborators and partners. This should be a list of potential and existing community partners with contact information.

(e) Describe ongoing implementation efforts in the community. Additional information must be provided, in narrative form, regarding steps that stakeholders in the community have taken to address the challenges independently.

(f) Provide technical assistance to communities applying for programmatic resources, services, and opportunities. Host in-person and/or online trainings for socially disadvantaged and/or veteran farmers, ranchers and agricultural producers in persistent poverty areas (https://www.ers.usda.gov/data-products/county-typology-codes.aspx), including in Opportunity Zones (https://www.irs.gov/pub/irs-drop/n-18-48.pdf). Trainings can include, but are not limited to bringing awareness to USDA capacity building programs, conservation awareness, urban agriculture awareness, and other types of trainings and workshops.

D. Anticipated Outputs (Activities), Outcomes (Results), and Performance Measures

1. Outputs (Activities)

The term “output” means an outreach, educational component, or assistance activity, task, or associated work product related to improving the ability of socially disadvantaged or veteran farmers, ranchers and agricultural producers to own and operate farms and ranches, assistance with agriculture related activities, or guidance for participation in USDA programs. Outputs may be quantitative or qualitative but must be measurable during the period of performance. Examples of outputs from the projects to be funded under this announcement may describe an organization's activities and their participants such as: Number of workshops or meetings held and number of participants attending (including a list of participants with contact information); frequency of services or training delivered and to whom; development of products, curriculum, or resources provided. Other examples include but are not limited to the following:

a. Number of limited resource, socially disadvantaged and/or veteran farmers or ranchers served or trained;

b. number of trainings held and number of limited resource, socially disadvantaged and/or veteran farmers, ranchers and agricultural producers that attended;

c. number of local prosperity councils with self-identified challenges and assessments;

d. number of persistent poverty communities, including communities in Opportunity Zones, identified;

e. number of USDA agencies providing resources;

f. number of programs and resources applied for by communities and limited resource, socially disadvantaged and/or veteran farmers, ranchers and agricultural producers;

g. number of mentors and local leaders identified;

h. number of State and local resources leveraged;

i. number of private sector partners and resources leveraged;

j. creation of a program to enhance the operational viability of limited resource, socially disadvantaged and/or veteran farmers, ranchers and agricultural producers;

k. number of limited resource, socially disadvantaged and/or veteran farmers and/or ranchers and agricultural producer applications assisted with submitting for consideration for USDA programs;

l. activity that supports increased participation of limited resource, socially disadvantaged and/or veteran farmers, ranchers and agricultural producers in USDA programs; or

m. Partnerships formed locally to improve access to USDA's programs and services.

n. Progress and Financial Reports will be required, no more than quarterly.

2. Outcomes (Results)

The term “outcome” means the difference or effect that has occurred as a result from carrying out an activity, workshop, meeting, or from delivery of services related to a programmatic goal or objective. Outcomes refer to the final impact, change, or result that occurs as a direct result of the activities performed in accomplishing the objectives and goals of your project. Outcomes may refer to results that are agricultural, behavioral, social, or economic in nature. Outcomes may reflect an increase in knowledge or skills, a greater awareness of available resources or programs, or actions taken by stakeholders as a result of learning. Specifically, outcomes must be quantitative as it relates to the project goals and objectives. Project Directors will be required to document anticipated outcomes that are funded under this announcement including, but not limited to the following:

a. Documenting the number of new farmers and/or ranchers your organization assisted as a result of your project and the type of assistance;

b. Documenting the number of local prosperity councils created; Document the number of assessments, plans and strategies developed;

c. Documenting race, sex, national origin, disability and number of limited resource, socially disadvantaged and/or veteran farmers or ranchers applying for USDA programs and services by program area;

d. Documenting race, sex, national origin, disability and number of USDA program applications approved for funding, by program area, for socially disadvantaged or veteran farmers or ranchers as a result of your activities;

e. Documenting the number of limited resource, socially disadvantaged and/or veteran farmers and ranchers that have better access to USDA Programs, including conservation implementation, as a result of your outreach and/or training efforts;

f. Documenting the enhanced sustainability and retention of farming operations among limited resource, socially disadvantaged and/or veteran farmers or ranchers;

g. Documenting higher profitability and economic stability among limited resource, socially disadvantaged and/or veteran farmers or ranchers resulting from increased access to marketing and enhanced sales opportunities for their products;

h. Documenting an increase in the number and types of USDA programs and services utilized as a result of your project; and

i. Documenting partnerships and resources leveraged, including a list of all individuals, parties, entities or organization.

3. Performance Measures

Performance measures are tied to the goals or objectives of each activity and ultimately the overall purpose of the project. They provide insight into the effectiveness of proposed activities by indicating areas where a project may need adjustments. Applicants must develop performance measure expectations which will occur as a result of their proposed activities. These expectations will be used as a mechanism to track the progress and success of a project. Project performance measures should include statements such as: Whether workshops or technical assistance will meet the needs of farmers or ranchers in the service area and why; how much time will be spent in group training or individual hands-on training of farmers, ranchers and agricultural producers; or whether activities will meet the demands of stakeholders. Project performance measures must include the assumptions used to make those estimates. Consider the following questions when developing performance measurement statements:

a. What is the measurable short-term and long-term impact your project will have on serving the needs of historically underserved farmers, ranchers and agricultural producers?

b. How will your organization measure the effectiveness and efficiency of our proposed activities to meet the overall goals and objectives for this project?

c. How will your project track the compilation of a complete assessment of local challenges and document how the connection will be made to link them with available resources for assistance?

d. Who can you best partner with to leverage resources available to assist historically underserved farmers, ranchers and agricultural producers?

II. Award Information

A. Statutory Authority

The statutory authority for this action is 7 U.S.C. 2279(c), which authorizes award funding for projects designed to provide outreach, education and technical assistance to socially disadvantaged and/or veteran farmers or ranchers.

Grant funds are also being awarded under the Conservation Technical Assistance, Soil and Water Conservation (CTA): Soil Conservation and Domestic Allotment Act, Public Law 74-76, N/A, 16. U.S.C. 590a-590f, 590q.

Applicants may charge their negotiated indirect cost rate or 10 percent, whichever is lower. Indirect cost rates exceeding 10 percent will not be permitted.

B. Expected Amount of Funding

The total estimated funding expected to be available for awards under this competitive opportunity is approximately $4 million, including funds provided in the 2018 Farm Bill and the Consolidated Appropriations Act of 2020.

C. Project Period

The performance period for projects selected from this solicitation will not begin prior to the effective award date listed in the grant agreement. The maximum project period is 3 years.

D. Award Type

Funding for selected projects will be in the form of a grant which must be fully executed no later than September 30, 2020. The anticipated Federal involvement will be limited to the following activities:

1. Approval of recipients' final budget and Project Narrative or statement of work accompanying the grant agreement;

2. Monitoring of recipients' performance through quarterly, annual (for multi-year projects) and final financial and performance reports; and

3. Evaluation of recipients' use of federal funds through desk audits and on-site visits.

III. Eligibility Information

A. Eligible Entities

Applicants and applications must meet eligibility criteria by the application deadline to be considered for award. Eligible applicant type is determined by the implementing program statute. Eligibility for this opportunity is limited to the following entity types:

1. Nonprofits having a 501(c)(3) status with the IRS (other than institutions of higher education).

2. Native American tribal governments (federally and non-federally recognized).

3. Private institutions of higher education.

4. Public and State-controlled institutions of higher education.

(Please note that in order to submit proposals, organizations must create accounts in Grants.gov and in the System for Awards Management www.SAM.gov; both of which could take several weeks.) Therefore, it is strongly suggested that organizations begin this process immediately. Registering early could prevent unforeseen delays in submitting your proposal.

Applicants identified in the SAM.gov exclusions database as ineligible, prohibited/restricted or excluded from receiving Federal contracts, certain subcontracts, and certain Federal assistance and benefits will not be considered for Federal funding (2 CFR 200.205(d)).

B. Cost-Sharing or Matching

There are no cost-sharing nor matching requirements associated with this funding announcement.

C. Threshold Eligibility Criteria

Applications from eligible entities that meet all criteria will be evaluated as follows:

1. Proposals must comply with the submission instructions and requirements. Pages in excess of the page limitation will not be considered.

2. Proposals must be received through Grants.gov on or before the proposal submission deadline. Applicants will receive an electronic confirmation receipt of their proposal from Grants.gov. Proposals received after the submission deadline will not be considered. Proposals must address a minimum of five priority areas to provide outreach, training and technical assistance to socially disadvantaged or veteran farmers or ranchers as stated in leveraging partnerships.

3. Incomplete or partial applications will not be eligible for consideration.

IV. Proposal and Submission Information

A. Data Universal Numbering System

In accordance with the Federal Funding Accountability and Transparency Act (FFATA) and the USDA implementation, all applicants must obtain and provide an identifying number from Dun and Bradstreet's (D&B) Data Universal Numbering System (DUNS). Applicants can receive a DUNS number, at no cost, by calling the toll-free DUNS number request line at (866) 705-5711 or visiting the D&B website at www.dnb.com.

B. System for Award Management (SAM)

It is a requirement to register for SAM (www.sam.gov).There is NO fee to register for this site. This registration must be maintained and updated annually. Applicants can register or update their profile, at no cost, by visiting the SAM website at www.sam.gov. This is a requirement to registering for Grants.gov where all organizations must submit their application.

Per 2 CFR part 200, applicants are required to: (1) Be registered in SAM prior to submitting an application; (2) provide a valid unique entity identifier in the application; and (3) continue to maintain an active SAM registration with current information at all times during which the organization has an active Federal award or an application or plan under consideration by a Federal awarding agency. The OPPE may not make a Federal award to an applicant until the applicant has complied with all applicable unique entity identifier and SAM requirements. If an applicant has not fully complied with the requirements by the time the OPPE is ready to make a Federal award, the OPPE may determine that the applicant is not qualified to receive a Federal award and use that determination as a basis for making a Federal award to another applicant.

SAM contains the publicly available data for all active exclusion records entered by the Federal Government identifying those parties excluded from receiving Federal contracts, certain subcontracts, and certain types of Federal financial and non-financial assistance and benefits. All applicant organizations and their key personnel will be vetted through SAM to ensure they are in compliance with this requirement and not on the Excluded Parties List. Organizations identified as having delinquent Federal debt may contact the Treasury Offset Program at (800) 304-3107 for instructions on resolution but will not be awarded a 2501 Program grant prior to resolution.

Should an applicant be awarded a grant, ezFedGrants (USDA's financial grants management system) is linked with SAM to ensure funding payments are directed properly as entities must enter their banking information through SAM; as a result, Federal agencies cannot award funding to any organization not properly/fully registered in SAM.

C. Obtain Proposal Package From Grants.gov (www.grants.gov)

All applicants must register for an account on Grants.gov to submit their application. There is no cost for registration. All applications must be submitted through www.grants.gov. This website is managed by the Department of Health and Human Services, not the OPPE. Many Federal agencies use this website to post Funding Opportunity Announcements (FOA). Please click on the “Support” tab to contact their customer support personnel if you need help with submitting your application.

Applicants may download individual grant proposal forms from www.grants.gov. For assistance with www.grants.gov, please consult the Applicant User Guide at http://grants.gov/assets/ApplicantUserGuide.pdf.

Applicants are required to submit proposals through www.grants.gov will be required to register with www.grants.gov to begin the proposal submission process. We strongly suggest you initiate this process immediately to avoid processing delays due to registration requirements.

Federal agencies post funding opportunities on www.grants.gov. The OPPE is not responsible for submission issues associated with www.grants.gov. If you experience submission issues, please contact www.grants.gov support staff for assistance.

Proposals must be submitted by August 24, 2020, via www.grants.gov at 11:59 p.m. EST. Proposals submitted after this deadline will not be considered.

D. Content of Proposal Package Submission

All submissions must contain completed and electronically signed original application forms, as well as a Project Narrative and a Budget Narrative as described below:

1. Forms, documents, and attachments. The forms listed below can be found in the proposal package at www.grants.gov and must be submitted with all applications. Required forms are provided in the package as fillable forms. Applicants must download and complete these forms and submit them in the application submission portal at www.grants.gov. PDF documents listed below are documents the applicant must create and submit in PDF format. Please use the checklist of documents below to submit your application through Grants.gov:

a. Standard Form (SF) 424, Application for Federal Assistance.

b. Project Abstract Summary (including site location(s) with demographic information).

c. Project Narrative File (this is where you will attach your Project Narrative in PDF format).

d. Standard Form (SF) 424A, Budget Information—Non-Construction Programs.

e. Budget Narrative File (this is where you will attach your Budget Narrative in PDF format).

f. Standard Form (SF) 424B, Assurances—Non-Construction Programs.

g. Key Contacts Form (please provide first, middle, and last names).

h. Form AD-3030 Representations Regarding Felony Conviction and Tax Delinquent Status for Corporate Applicants.

i. Form AD-3031, Assurance Regarding Felony Conviction or Tax Delinquent Status for Corporate Applicants.

j. Attachments Form (where you may place all your appendices).

Please note, additional required forms from organizations being awarded a grant will be provided for execution upon approval.

2. Below is further guidance, where needed, for completing the forms, documents, and attachment forms listed above.

SF-424 Application for Federal Assistance

Complete all highlighted areas on this form. Please pay particular attention to block 18a of the SF-424. This is the amount of Federal funding you are requesting under this funding opportunity. This form is the official requesting document and the amount that will be considered if you should have any discrepancies between this form and your Budget Information Form, SF-424A. Ensure this form is completed with accuracy; particularly email addresses and phone numbers. The OPPE may not be able to reach you if your information is incorrect.

Project/Performance Site Location(s)

Please include all locations if your proposed project will be carried out at additional sites.

Each page must be on numbered 8½″ × 11″ paper with one-inch margins. The text of the proposal must be double spaced and typed in New Times Roman, no smaller than 12-point font and must not exceed 10 pages. Letters of support and are not included in the page restriction.

Proposals that fail to comply with the required content and format will not be considered for funding. Materials submitted exceeding the maximum page limits and/or formatting structure will not be considered. Incomplete proposals will not be considered. Proposals must be divided into the following sections and are limited to the number of pages stated per section:

a. Project Summary: 250 words maximum.

b. Introduction: One (1) page maximum.

c. Needs Assessment: One (2) page maximum.

d. Program Objectives: One (2) page maximum.

e. Methods: Two (2) page maximum plus Deliverables Table.

f. Budget: One (1) page maximum.

g. Evaluation: 250 words maximum.

E. Project Summary—Up to 10 Points: (First Page of Grant Application. 250-Word Maximum.)

A good summary will provide a frame of reference for the reviewer as they begin the review process. It should be clear, concise, and interesting. The summary should be one to three paragraph long and include the Project Title. The summary should include one or two sentences about each of the following: The applicant organization, a statement on capacity of the organization to implement the proposed activities, a statement on the communities' needs and challenges and strategies for addressing them, a statement on the objectives and methods, the need motivating the request, the project start and end dates, the measurable outcomes and methodology, other organizations that will be involved, the project total cost, including funds already obtained, and the amount requested in this proposal.

F. Introduction—Up to 10 Points: One (1) Page Narrative Maximum

This section should introduce your organization to the reviewer and lend credibility to your organization's qualifications and ability to successfully manage a federal agreement. The response should be succinct, offer a good balance between quantitative and qualitative information, and be free of unnecessary verbiage. It should include a brief history of the organization, including its mission statement and goals, capacity to implement your proposal, evidence of past events, accomplishments, and description of your clientele, including demographic information, organizational funding sources. Describe your history of successfully managing these federal and non-federal agreements, including meeting and complying with reporting requirements, submitting final acceptable technical reports, and reporting on progress made in achieving the results under those agreements.

Applicants must state if they are assisting either a Historically Underserved Community (socially disadvantaged, limited resource, beginning, or veteran farmers or ranchers) according to the definition in the Agriculture Improvement Act of 2018. Applicants who self-certifying as Historically Underserved may be requested to provide records to verify their claim. For more information visit: https://www.nrcs.usda.gov/wps/portal/nrcs/detail/national/people/outreach/slbfr/?cid=nrcsdev11_001040.

G. Needs Assessment—Up to 25 Points: (Two (2)-Page Maximum.)

The needs assessment is critical to the success of your application. It is the justification for your proposal and should focus on the condition that your proposal will address. Use care to ensure your proposal makes no unsupported assumptions. Your Needs Assessment should make a compelling case and identify focal area(s) within the project area or priority criteria, demonstrate the tie-in to the organizational mission and goals, describe the issues to be addressed, and the history of, and need for, the proposed innovation, provide statistical and authoritarian evidence that clearly supports the needs identified in the proposal and supports a high probability for success, and makes a compelling case for the project funding based on demonstrated need, the extent to which the proposal addresses at least five of the priority areas identified, the narrative includes a well-conceived strategy for addressing those requirements, objectives and the needs or problems to be solved, relates to purposes and goals of the applicant, includes reasonable dimensions versus trying to solve global issues, developed with input from clients and beneficiaries, and makes no unsupportive assumptions.

H. Programmatic Objectives—Up to 20 Points (Two (2)-Page Maximum)

This section of the proposal should make a compelling case identifying focal area(s) within the project area or priority criteria, thoroughly address project outcomes, not project activities. Identify the primary beneficiary of the grant such as veteran, beginning, tribal, socially disadvantaged, limited resource farmers/ranchers, etc. You should be using language that supports the issues identified in the needs assessment. Avoid including topics that pertain to providing, establishing, or developing a method to address the problem. Your objectives should include at least one objective for each problem identified in the Needs Assessment. Each objective must be specific, measurable, achievable, realistic, and contain a timeline for completion. Be sure to describe how the outcomes will be measured.

I. Methods—Up to 20 Points: (Two (2)-Page Maximum.)

Clearly describe program activities that constitute a solution with reasons for selections of activities, methods, activities and procedures are innovative and explain to the grant reviewer the steps that will be taken to complete the objectives identified in the previous section. This section demands clarity and justification in describing how the objectives will be met. Use care to present a reasonable number of activities that can be completed within the budget and grant period. Clearly describe the program activities, their sequence, and explain your reason for choosing this combination of activities. Provide a detailed description of how the project will be organized and managed. Include a list of key project personnel, their relevant education or experience, and their anticipated contributions to the project. Explain the level of participation required in the project by government (USDA) and non-government/public-sector entities and identify who will participate in monitoring and evaluating the project. Proposal must describe how the project will be sustained post agreement and if the activities and outcomes are transferable to other organizations.

J. Budget—Up to 10 Points: (One (1) Page Maximum)

The extent which the proposal describes the costs required to achieve the desired objectives, including personnel, fringe benefits, travel, equipment, supplies, indirect costs, and requested USDA financial assistance, lists partnering organizations, provides detailed costs, and includes a well written description of the costs required (including time, responsibilities and number of key staffs). Applicants may charge their negotiated indirect cost rate or 10 percent, whichever is lower. Indirect cost rates exceeding 10 percent will not be permitted.

K. Evaluation—Up to 5 Points-(One (1) Page Maximum)

The extent to which the proposal presents a plan for determining the degree to which objectives are met and methods are followed, presents a plan for evaluating accomplishments of objectives, a plan for evaluating and modifying methods over the course of the project, clearly states criteria of success and describes how success will be measured, and define how progress will be reported and technical representative(s) kept informed. DO NOT PASSWORD PROTECT ANY OF YOUR SUBMITTED DOCUMENTS OR FORMS.

L. Sub-Awards and Partnerships

Funding may be used to provide sub-awards, which includes using sub-awards to fund partnerships; however, the recipient must utilize at least 50 percent of the total funds awarded, and no more than three sub-awards will be permitted. All sub-awardees must comply with applicable requirements for sub-awards. Applicants must provide documentation of a competitive bidding process for services, contracts, and products, including consultants and contractors, and conduct cost and price analyses to the extent required by applicable procurement regulations.

The OPPE awards funds to one eligible applicant as the lead award recipient. Please indicate a lead applicant as the responsible party if other organizations are named as partners or co-applicants or members of a coalition or consortium. The lead award recipient will be held accountable to the OPPE for the proper administrative requirements and expenditure of all funds.

M. Submission Dates and Times

The closing date and time for receipt of proposal submissions is August 24, 2020, at 11:59 p.m., EST, via www.grants.gov. Proposals received after the submission deadline will be considered late without further consideration. Proposals must be submitted through Grants.gov without exception. Additionally, organizations must also be registered in the System of Awards Management (SAM) at www.sam.gov. The proposal submission deadline is firm.

N. Confidential Information

In accordance with 2 CFR part 200, the names of entities submitting proposals, as well as proposal contents and evaluations, will be kept confidential to the extent permissible by law. Any information that the applicant wishes to have considered as confidential, privileged, or proprietary should be clearly marked as such in the proposal. If an applicant chooses to include confidential or proprietary information in the proposal, it will be kept confidential to the extent permitted by law.

Pre-Submission Proposal Assistance

1. The OPPE may not assist individual applicants by reviewing draft proposals or providing advice on how to respond to evaluation criteria. However, the OPPE will respond to questions from individual applicants regarding eligibility criteria, administrative issues related to the submission of the proposal, and requests for clarification regarding the announcement. Any questions should be submitted to CommunityProsperity@usda.gov. Additionally, the OPPE will host public teleconferences to address questions and clarify requirements during the open period of this solicitation. Dates, time, and phone numbers are provided on Page 1 of this announcement.

2. The OPPE will post questions and answers relating to this funding opportunity during its open period on the Frequently Asked Questions (FAQs) section of our website: http://www.outreach.usda.gov/grants/. Reviewing this section of our website will likely save you valuable time. The OPPE will update the FAQs on a weekly basis and conduct teleconferences on an as-needed basis.

3. Please visit our website: https://www.outreach.usda.gov/grants/index.htm to review the most recent Terms and Conditions for administering grants. This version is subject to change upon new program requirements.

4. Applicants selected for funding must inform their participants that USDA, or any of its third-party representatives, may contact them for quality assurance.

V. Application Review Information

A. Evaluation Criteria

Only eligible entities whose proposals meet the threshold criteria of this announcement will be reviewed according to the evaluation criteria set forth below. Applicants should explicitly and fully address these criteria as part of their proposal package. Each proposal will be evaluated under the regulations established under 2 CFR part 200.

Proposals will be screened for completeness and compliance with the provisions of this notice. Incomplete, noncompliant, and/or proposals not meeting the formatting criteria will be eliminated from competition.

Merit/technical reviews will be conducted by a qualified evaluation panel (panel). Risk reviews will be conducted prior to making the final award decisions. Evaluated proposals will be forwarded to the Director of the Office of Partnerships and Public Engagement who will make the final selections.

Each proposal will be reviewed by at least two members of the panel. Panel members will review, and score all submitted applications. The Panel Lead will numerically score and rank each application and funding will be awarded within the two funding categories. Funding decisions will be based on the Panel's recommendations. Final funding decisions are not appealable.

Please be patient as processing all submitted applications, vetting key personnel, proposal reviews, approval process, and agreement creation is a lengthy process that takes approximately two to three months. All applicants will be notified electronically of their application status when final selections have been made and will be provided an opportunity for application feedback as provided within the correspondence.

B. Selection of Reviewers

All applications will be reviewed by the Review Panel. Panel members are selected based upon training and experience in assisting historically undeserved farmers, ranchers and agricultural producers. This assistance includes, but is not limited to, bringing increased awareness of USDA's programs and services in underserved communities, outreach, technical assistance, cooperative extension services, civil rights, education, statistical and ethnographic data collection and analysis, and agricultural programs, and are drawn from a diverse group of experts, including applicant peers, to create a balanced panel.

VI. Award Administration Information

A. Award Notices

Proposal Notifications and Feedback

1. Successful applicants will be notified by the OPPE via telephone, email, and/or postal mail that its proposed project has been recommended for award. The notification will be sent to the Project Manager listed on the SF-424, Application for Federal Assistance. Project Managers should be the Authorized Organizational Representative (AOR) and authorized to sign on behalf of the organization. It is imperative that this individual is responsive to notifications by the OPPE. If the individual is no longer in the position, please notify the OPPE immediately to submit the new contact for the application by updating your organization's Key Contacts form and forwarding a résumé of the new key personnel. The grant agreement will be forwarded to the recipient for execution and must be returned to the OPPE Director, who is the authorizing official. Once grant documents are executed by all parties, authorization to begin work will be given. At a minimum, this process can take up to 30 days from the date of notification.

2. Within 10 days of award status notification, unsuccessful applicants may request feedback on their application. Feedback will be provided as expeditiously as possible. Feedback sessions will be scheduled contingent upon the number of requests.

B. Administrative and National Policy Requirements

All awards resulting from this solicitation will be administered in accordance with the Office of Management and Budget (OMB) Uniform Administrative Requirements, Cost Principles, and Audit Requirements for Federal Awards codified at 2 CFR part 200, as supplemented by USDA implementing regulations at 2 CFR parts 400 and 415, and the OPPE Federal Financial Assistance Programs—General Award Administrative Procedures, 7 CFR part 2500. Additionally, the authorizing statute and regulation for this opportunity is also the Conservation Technical Assistance, CFDA 10.902—Soil and Water Conservation (CTA): Soil Conservation and Domestic Allotment Act, Public Law 74-76, N/A, 16. U.S.C. 590a-590f, 590q.

In compliance with its obligations under Title VI of the Civil Rights Act of 1964 and Executive Order 13166, it is the policy of the OPPE to provide timely and meaningful access for persons with Limited English Proficiency (LEP) to projects, programs, and activities administered by Federal grant recipients. Recipient organizations must comply with these obligations upon acceptance of grant agreements as written in the OPPE's Terms and Conditions. Following these guidelines is essential to the success of our mission to improve access to USDA programs for socially disadvantaged and/or veteran farmers, ranchers and agricultural producers.

C. Reporting Requirement

Your approved statement of work, timeline, and budget are your guiding documents in carrying out the activities of your project and for your reporting requirements. Please familiarize yourself with USDA's grants management system called ezFedGrants: https://www.nfc.usda.gov/FSS/ClientServices/ezFedGrants/. In accordance with 2 CFR part 200, the following reporting requirements will apply to awards provided under this FOA. The OPPE reserves the right to revise the schedule and format of reporting requirements as necessary in the award agreement.

1. No more than Quarterly Progress Reports and Financial Reports will be required as follows:

a. Quarterly Progress Reports. The recipient is required to provide a detailed narrative of project performance and activities as described in the award agreement. Quarterly progress reports must be submitted to the designated OPPE official via ezFedGrants within 30 days after the end of each calendar quarter. This includes, but is not limited to, activities completed, events held, and the release of sign-in sheets with participants' contact information.

b. Quarterly Financial Reports. The recipient must submit SF 425, Federal Financial Report to the designated OPPE official via ezFedGrants within 30 days after the end of each calendar quarter.

2. Annual reports may be required for multi-year projects.

3. Final Progress and Financial Reports will be required upon project completion. The Final Progress Report must include a summary of the project or activity throughout the funding period, achievements of the project or activity, and a discussion of overall successes and issues experienced in conducting the project or project activities. It should convey the impact your project had on the communities you served and discuss the project's accomplishments in achieving expected outcomes. This requirement includes, but is not limited to, the number of new USDA applicants as a result of your award, the number of approved applicants for USDA programs and services, increased awareness of USDA programs and services, etc.

4. The final Financial Report should consist of a complete SF-425 indicating the total costs of the project. Final Progress and Financial Reports must be submitted to the designated OPPE official via ezFedGrants within 90 days after the completion of the award period as follows:

Report | Performance period | Due date | Grace period
Form SF-425, Federal Financial Report and Progress Report (Due Quarterly) | 1 October thru 31 December 1 January thru 31 March 1 April thru 30 June 1 | 12/31/2020 3/31/2021 6/30/2021 | 1/30/2021 4/30/2021 7/30/2021
| July thru 30 September | 9/30/2021 | 10/30/2021
Annual (for multi-year project) and Final Progress and Financial Reports | Earlier of December 30, 2021, or 90 days after project completion.
* Dates subject to change at the discretion of the OPPE.

Signed this 26 day of June 2020.
Jacqueline Davis-Slay,
Deputy Director, Office of Partnerships and Public Engagement.

[FR Doc. 2020-14325 Filed 7-9-20; 8:45 am]

BILLING CODE 3412-89-P